DEPARTMENT OF ENERGY

Federal Energy Regulatory Commission

Notice of Commission Staff Attendance at Midwest Iso Winter Gas Supply Availability and Unit Commitment Meeting

November 10, 2005.

The Federal Energy Regulatory Commission hereby gives notice that members of its staff may attend a meeting entitled Winter Gas Supply Availability and Unit Commitment, sponsored by the Midwest Independent Transmission System Operator, Inc. The meeting will take place on Wednesday, November 16, 2005, from 4 p.m. to 6 p.m. e.s.t., at the Lakeside Conference Center, 630 West Carmel Drive, Carmel, IN 46032. Teleconference details are expected to become available at http://www.midwestmarket.org/page/MisoPortalHome.

The meeting discussions may address matters at issue in the following proceedings:

Docket Nos. ER04-691 and EL04-104, et al., Midwest Independent Transmission System Operator, Inc., et al.

Docket No. ER06-80, New York State Electric & Gas Corporation.

This meeting is open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E5-6424 Filed 11-21-05; 8:45 am]

BILLING CODE 6717-01-P